DEPARTMENT OF ENERGY

Federal Energy Regulatory Commission

Combined Notice of Filings #1

Take notice that the Commission received the following electric corporate filings:

Docket Numbers: EC16-156-000.

Applicants: Town Square Energy East, LLC, Town Square Energy, LLC.

Description: Application of Town Square Energy East, LLC, et al. for Authorization Under Federal Power Act Section 203 and Requests for Expedited Treatment and Confidential Information.

Filed Date: 7/22/16.

Accession Number: 20160722-5197.

Comments Due: 5 p.m. ET 8/12/16.

Take notice that the Commission received the following electric rate filings:

Docket Numbers: ER16-2035-000.

Applicants: Black Oak Wind, LLC.

Description: Supplement to June 27, 2016 Black Oak Wind, LLC tariff filing.

Filed Date: 7/21/16.

Accession Number: 20160721-5124.

Comments Due: 5 p.m. ET 8/1/16.

Docket Numbers: ER16-2194-000.

Applicants: Clinton Battery Utility, LLC.

Description: Supplement to July 14, 2016 Clinton Battery Utility, LLC submits filing.

Filed Date: 7/22/16.

Accession Number: 20160722-5185.

Comments Due: 5 p.m. ET 8/5/16.

Docket Numbers: ER16-2272-000.

Applicants: Puget Sound Energy, Inc

Description: § 205(d) Rate Filing: Attachment O Revisions to Implement Intrachange Scheduling and Imbalance Charges to be effective 9/20/2016.

Filed Date: 7/22/16.

Accession Number: 20160722-5180.

Comments Due: 5 p.m. ET 8/12/16.

Docket Numbers: ER16-2273-000.

Applicants: Passadumkeag Windpark, LLC.

Description: § 205(d) Rate Filing: Passadumkeag Market-Based Rate Tariff Amendment Filing to be effective 7/26/2016.

Filed Date: 7/25/16.

Accession Number: 20160725-5057.

Comments Due: 5 p.m. ET 8/15/16.

Docket Numbers: ER16-2274-000.

Applicants: Parrey, LLC.

Description: § 205(d) Rate Filing: Parrey Market-Based Rate Tariff Amendment Filing to be effective 7/26/2016.

Filed Date: 7/25/16.

Accession Number: 20160725-5058.

Comments Due: 5 p.m. ET 8/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2016.
Nathaniel J. Davis, Sr.,
Deputy Secretary.

[FR Doc. 2016-17993 Filed 7-28-16; 8:45 am]

BILLING CODE 6717-01-P